DEPARTMENT OF JUSTICE

Drug Enforcement Administration

Importer of Controlled Substances; Notice of Registration

By Notice dated June 17, 2010, and published in the Federal Register on June 28, 2010, (75 FR 36681), Research Triangle Institute, Kenneth H. Davis, Jr., Hermann Building, East Institute Drive, P.O. Box 12194, Research Triangle, North Carolina 27709, made application by renewal to the Drug Enforcement Administration (DEA) to be registered as an importer of the following basic classes of controlled substances:

Drug | Schedule
1-(1-Phenylcyclohexyl)pyrrolidine (7458) | I
1-[1-(2-Thienyl)cyclohexyl]piperidine (7470) | I
1-[1-(2-Thienyl)cyclohexyl]pyrrolidine (7473) | I
1-Methyl-4-phenyl-4-propionoxypiperidine (9661) | I
1-(2-Phenylethyl)-4-phenyl-4-acetoxypiperidine (9663) | I
2,5-Dimethoxy-4-(n)-propylthiophenethylamine (7348) | I
2,5-Dimethoxy-4-ethylamphetamine (7399) | I
2,5-Dimethoxyamphetamine (7396) | I
3,4,5-Trimethoxyamphetamine (7390) | I
3,4-Methylenedioxyamphetamine (7400) | I
3,4-Methylenedioxymethamphetamine (7405) | I
3,4-Methylenedioxy-N-ethylamphetamine (7404) | I
3-Methylfentanyl (9813) | I
3-Methylthiofentanyl (9833) | I
4-Bromo-2,5-dimethoxyamphetamine (7391) | I
4-Bromo-2,5-dimethoxyphenethylamine (7392) | I
4-Methyl-2,5-dimethoxyamphetamine (7395) | I
4-Methylaminorex (cis isomer) (1590) | I
4-Methoxyamphetamine (7411) | I
5-Methoxy-3,4-methylenedioxyamphetamine (7401) | I
5-Methoxy-N,N-diisopropyltryptamine (7439) | I
Acetorphine (9319) | I
Acetyl-alpha-methylfentanyl (9815) | I
Acetyldihydrocodeine (9051) | I
Acetylmethadol (9601) | I
Allylprodine (9602) | I
Alphacetylmethadol except levo-alphacetylmethadol (9603) | I
Alpha-ethyltryptamine (7249) | I
Alphameprodine (9604) | I
Alphamethadol (9605) | I
Alpha-methylfentanyl (9814) | I
Alpha-methylthiofentanyl (9832) | I
Alpha-methyltryptamine (7432) | I
Aminorex (1585) | I
Benzethidine (9606) | I
Benzylmorphine (9052) | I
Betacetylmethadol (9607) | I
Beta-hydroxy-3-methylfentanyl (9831) | I
Beta-hydroxyfentanyl (9830) | I
Betameprodine (9608) | I
Betamethadol (9609) | I
Betaprodine (9611) | I
Bufotenine (7433) | I
Cathinone (1235) | I
Clonitazene (9612) | I
Codeine methylbromide (9070) | I
Codeine-N-Oxide (9053) | I
Cyprenorphine (9054) | I
Desomorphine (9055) | I
Dextromoramide (9613) | I
Diampromide (9615) | I
Diethylthiambutene (9616) | I
Diethyltryptamine (7434) | I
Difenoxin (9168) | I
Dihydromorphine (9145) | I
Dimenoxadol (9617) | I
Dimepheptanol (9618) | I
Dimethylthiambutene (9619) | I
Dimethyltryptamine (7435) | I
Dioxaphetyl butyrate (9621) | I
Dipipanone (9622) | I
Drotebanol (9335) | I
Ethylmethylthiambutene (9623) | I
Etonitazene (9624) | I
Etorphine except HCl (9056) | I
Etoxeridine (9625) | I
Fenethylline (1503) | I
Furethidine (9626) | I
Gamma Hydroxybutyric Acid (2010) | I
Heroin (9200) | I
Hydromorphinol (9301) | I
Hydroxypethidine (9627) | I
Ibogaine (7260) | I
Ketobemidone (9628) | I
Levomoramide (9629) | I
Levophenacylmorphan (9631) | I
Lysergic acid diethylamide (7315) | I
Marihuana (7360) | I
Mecloqualone (2572) | I
Mescaline (7381) | I
Methaqualone (2565) | I
Methcathinone (1237) | I
Methyldesorphine (9302) | I
Methyldihydromorphine (9304) | I
Morpheridine (9632) | I
Morphine methylbromide (9305) | I
Morphine methylsulfonate (9306) | I
Morphine-N-Oxide (9307) | I
Myrophine (9308) | I
N,N-Dimethylamphetamine (1480) | I
N-Benzylpiperazine (7493) | I
N-Ethyl-3-piperidyl benzilate (7482) | I
N-Ethylamphetamine (1475) | I
N-Ethyl-l-phenylcyclohexylamine (7455) | I
N-Hydroxy-3,4-methylenedioxyamphetamine (7402) | I
Nicocodeine (9309) | I
Nicomorphine (9312) | I
N-Methyl-3-piperidyl benzilate (7484) | I
Noracymethadol (9633) | I
Norlevorphanol (9634) | I
Normethadone (9635) | I
Normorphine (9313) | I
Norpipanone (9636) | I
Para-Fluorofentanyl (9812) | I
Parahexyl (7374) | I
Peyote (7415) | I
Phenadoxone (9637) | I
Phenampromide (9638) | I
Phenomorphan (9647) | I
Phenoperidine (9641) | I
Pholcodine (9314) | I
Piritramide (9642) | I
Proheptazine (9643) | I
Properidine (9644) | I
Propiram (9649) | I
Psilocybin (7437) | I
Psilocyn (7438) | I
Racemoramide (9645) | I
Tetrahydrocannabinols (7370) | I
Thebacon (9315) | I
Thiofentanyl (9835) | I
Tilidine (9750) | I
Trimeperidine (9646) | I
1-Phenylcyclohexylamine (7460) | II
1-Piperidinocyclohexanecarbonitrile (8603) | II
Alfentanil (9737) | II
Alphaprodine (9010) | II
Amobarbital (2125) | II
Amphetamine (1100) | II
Anileridine (9020) | II
Bezitramide (9800) | II
Carfentanil (9743) | II
Coca Leaves (9040) | II
Cocaine (9041) | II
Codeine (9050) | II
Dextropropoxyphene, bulk (non-dosage forms) (9273) | II
Dihydrocodeine (9120) | II
Dihydroetorphine (9334) | II
Diphenoxylate (9170) | II
Ethylmorphine (9190) | II
Etorphine Hcl (9059) | II
Fentanyl (9801) | II
Glutethimide (2550) | II
Hydrocodone (9193) | II
Hydromorphone (9150) | II
Isomethadone (9226) | II
Levo-alphacetylmethadol (9648) | II
Levomethorphan (9210) | II
Levorphanol (9220) | II
Lisdexamfetamine (1205) | II
Meperidine (9230) | II
Meperidine intermediate-A (9232) | II
Meperidine intermediate-B (9233) | II
Meperidine intermediate-C (9234) | II
Metazocine (9240) | II
Methadone (9250) | II
Methadone intermediate (9254) | II
Methamphetamine (1105) | II
Methylphenidate (1724) | II
Metopon (9260) | II
Moramide intermediate (9802) | II
Morphine (9300) | II
Nabilone (7379) | II
Opium, raw (9600) | II
Opium extracts (9610) | II
Opium fluid extract (9620) | II
Opium tincture (9630) | II
Opium, granulated (9640) | II
Oxycodone (9143) | II
Oxymorphone (9652) | II
Pentobarbital (2270) | II
Phenazocine (9715) | II
Phencyclidine (7471) | II
Phenmetrazine (1631) | II
Phenylacetone (8501) | II
Piminodine (9730) | II
Powdered opium (9639) | II
Racemethorphan (9732) | II
Racemorphan (9733) | II
Remifentanil (9739) | II
Secobarbital (2315) | II
Sufentanil (9740) | II
Thebaine (9333) | II

The company plans to import small quantities of the listed controlled substances for the National Institute on Drug Abuse (NIDA) for research activities.

In addition to the basic classes of controlled substances mentioned previously in this Notice of Registration, the Notice of Application (75 FR 36681), dated June 17, 2010, and published in the Federal Register on June 28, 2010, also stated that the Research Triangle Institute made application to be registered as an importer of the following schedule I controlled substances:

N-[1-benzyl-4-piperidyl]-N-phenylpropanamide (benzylfentanyl) (drug code: 9818)

N-[1-(2-thienyl)methyl-4-piperidyl]-N-phenylpropanamide (thenylfentanyl) (drug code: 9834)

By Notice dated June 19, 2010, and published in the Federal Register on June 29, 2010, (75 FR 37300), the DEA issued a rulemaking in the form of a Final Rule to correct Title 21, Code of Federal Regulations (CFR), specifically: 21 CFR 1308.11(g), by deleting regulations which listed benzylfentanyl (drug code: 9818) and thenylfentanyl (drug code: 9834) as being temporarily subject to schedule I controls under the emergency scheduling provisions of the Controlled Substances Act (CSA). DEA determined that these compounds were both essentially inactive, with no evidence of abuse potential. Pursuant to June 19th rulemaking (75 FR 37300), effective June 29, 2010, both benzylfentanyl (drug code: 9818) and thenylfentanyl (drug code: 9834) were no longer legally deemed to be controlled substances. Thus, neither benzylfentanyl (drug code: 9818) nor thenylfentanyl (drug code: 9834) is listed in this Notice of Registration despite being originally listed in the Notice of Application. (75 FR 36681)

No comments or objections have been received. DEA has considered the factors in 21 U.S.C. 823(a) and 952(a) and determined that the registration of Research Triangle Institute to import the basic classes of controlled substances is consistent with the public interest and with United States obligations under international treaties, conventions, or protocols in effect on May 1, 1971. DEA has investigated Research Triangle Institute to ensure that the company's registration is consistent with the public interest. The investigation has included inspection and testing of the company's physical security systems, verification of the company's compliance with state and local laws, and a review of the company's background and history. Therefore, pursuant to 21 U.S.C. 952(a) and 958(a), and in accordance with 21 CFR 1301.34, the above named company is granted registration as an importer of the basic classes of controlled substances listed.

Dated: January 18, 2011.
Joseph T. Rannazzisi,
Deputy Assistant Administrator, Office of Diversion Control, Drug Enforcement Administration.

[FR Doc. 2011-2284 Filed 2-1-11; 8:45 am]

BILLING CODE 4410-09-P